DEPARTMENT OF HOUSING AND URBAN DEVELOPMENT

[Docket No. FR-5544-D-10]

Redelegation of Administrative Authority Under Section 504 of the Rehabilitation Act of 1973

AGENCY: Office of the Assistant Secretary for Fair Housing and Equal Opportunity, HUD.

ACTION: Notice of redelegation of authority.

SUMMARY: In this notice, the Assistant Secretary for Fair Housing and Equal Opportunity (FHEO) supersedes all prior redelegations of authority made within the Office of the Assistant Secretary for FHEO under Section 504 of the Rehabilitation Act of 1973, and HUD's implementing regulations, and redelegates certain authority as set forth herein to the General Deputy Assistant Secretary, who in turn redelegates certain authority as set forth herein to the Deputy Assistant Secretary for Enforcement and Programs, Director of the Office of Enforcement, Director of the Office of Systemic Investigations and the FHEO Region Directors.

DATES: Effective Date: November 16, 2011

FOR FURTHER INFORMATION CONTACT: Sara K. Pratt, Deputy Assistant Secretary for Enforcement and Programs, Office of Fair Housing and Equal Opportunity, Department of Housing and Urban Development, 451 Seventh Street SW., Room 5204, Washington, DC 20410-0001, telephone (202) 402-6322. (This is not a toll-free number.) Hearing- and speech-impaired individuals may access this number through TTY by calling the toll-free Federal Relay Service at (800) 877-8339.

SUPPLEMENTARY INFORMATION: The Secretary has delegated to the Assistant Secretary for FHEO the authority to act as “responsible civil rights official” and “reviewing civil rights official” under section 504 of the Rehabilitation Act of 1973 and HUD's implementing regulations in 24 CFR part 8. The Assistant Secretary for FHEO redelegated the authority to act as the “responsible civil rights official” to the General Deputy Assistant Secretary for FHEO, who in turn, redelegated that authority to the Deputy Assistant Secretary for Enforcement and Programs, Director of the Office of Enforcement, Director of the Office of Systemic Investigations, and the FHEO Region Directors. The Assistant Secretary for FHEO also redelegated the authority to act as “reviewing civil rights official,” in accordance with 24 CFR 8.56(h), to the General Deputy Assistant Secretary for FHEO, who in turn further redelegated that authority to the Deputy Assistant Secretary for Enforcement and Programs, the Director of the Office of Enforcement, and the Director of the Office of Systemic Investigations. The Assistant Secretary for FHEO therefore now supersedes those prior redelegations and retains and redelegates authority as follows:

Section A. Authority Redelegated

The Assistant Secretary for FHEO retains and, with limited exceptions set forth in Section B, redelegates the authority to act as the “responsible civil rights official” and the “reviewing civil rights official” to the General Deputy Assistant Secretary for FHEO, including the authority to redelegate that authority. The General Deputy Assistant Secretary for FHEO retains and further redelegates the authority to act as the “responsible civil rights official” to the Deputy Assistant Secretary for Enforcement and Programs, Director of the Office of Systemic Investigations, Director of the Office of Enforcement and the FHEO Region Directors. The General Deputy Assistant Secretary for FHEO retains and further redelegates the authority to act as “reviewing civil rights official,” in accordance with in 24 CFR 8.56(h), to the Deputy Assistant Secretary for Enforcement and Programs, Director of the Office of Enforcement and the Director of the Office of Systemic Investigation. The authority redelegated to the General Deputy Assistant Secretary for FHEO to act as the “responsible civil rights official” when undertaking procedures to effect compliance pursuant to 24 CFR 8.57 is only redelegated to the Deputy Assistant Secretary for Enforcement and Programs and may not be redelegated.

Section B. Authority Excepted

The authority redelegated from the Assistant Secretary for FHEO does not include the authority to issue or waive regulations. The authority redelegated from the Assistant Secretary for FHEO to the General Deputy Assistant Secretary for FHEO does not include the authority to further redelegate.

Section C. Authority Superseded

All prior redelegations of authority made within the office of the Assistant Secretary for FHEO under section 504 of the Rehabilitation Act of 1973 are superseded.

Authority: Section 7(d) of the Department of Housing and Urban Development Act, 42 U.S.C. 3535(d).

Dated: November 16, 2011.
John Trasviña,
Assistant Secretary for Fair Housing and Equal Opportunity.
Bryan Greene,
General Deputy Assistant Secretary for Fair Housing and Equal Opportunity.

[FR Doc. 2011-30768 Filed 11-28-11; 8:45 am]

BILLING CODE 4210-67-P